DEPARTMENT OF AGRICULTURE

Forest Service

Notice of Proposed New Fee Sites

AGENCY: Forest Service, Agriculture (USDA).

ACTION: Notice of proposed new fee sites.

SUMMARY: The Gila National Forest is proposing to charge new fees at multiple recreation sites listed in SUPPLEMENTARY INFORMATION of this notice. Funds from fees would be used for operation, maintenance, and improvements of these recreation sites. An analysis of nearby developed recreation sites with similar amenities shows the proposed fees are reasonable and typical of similar sites in the area.

DATES: If approved, the new fee would be implemented no earlier than six months following the publication of this notice in the Federal Register.

ADDRESSES: Gila National Forest, 3005 E Camino del Bosque, Silver City, New Mexico 88061.

FOR FURTHER INFORMATION CONTACT: Matt Schultz, Recreation, Heritage, Engineering, Lands and Minerals Staff, 575-388-8280, or matthew.schultz@usda.gov.

SUPPLEMENTARY INFORMATION: The Federal Recreation Lands Enhancement Act (Title VII, Pub. L. 108-447) directed the Secretary of Agriculture to publish a six-month advance notice in the Federal Register whenever new recreation fee areas are established. The fees are only proposed at this time and will be determined upon further analysis and public comment. Reasonable fees, paid by users of these sites, will help ensure that the Forest can continue maintaining and improving recreation sites like this for future generations.

As part of this proposal, the Head of the Ditch, Wolf Hollow, Quemado Lake—El Caso I-III, Valle Tio Vinces Public Corrals, Big Horn, Pueblo Park, Cosmic, Forks, Sapillo, Aeroplane Mesa, Apache Creek, Ben Lilly, Willow Creek, Gwynn Tank, South Fork, Cherry Creek, Iron Creek, McMillan, Railroad Canyon, and Upper Gallinas Campgrounds are proposed at $10 per night. A $15 fee is proposed at Mesa Campground dump station. The Cosmic Group Campground is proposed for $100 per night. In addition, this proposal would implement new fees at four recreation rentals: Monument Park Cabin proposed at $50 per night, Negrito Fire Lookout proposed at $50 per night, Willow Creek Cabin proposed at $125 per night, and Kingston Work Center proposed at $150 per night. A new state-wide New Mexico annual pass is being proposed for $40. The full suite of Interagency passes would be honored.

New fees would provide increased visitor opportunities as well as increased staffing to address operations and maintenance needs and enhance customer service. Once public involvement is complete, these new fees will be reviewed by a Recreation Resource Advisory Committee prior to a final decision and implementation.

Advanced reservations for campgrounds and cabins will be available through www.recreation.gov or by calling 1-877-444-6777. The reservation service charges an $8.00 fee for reservations.

Dated: February 17, 2022.
Sandra Watts,
Acting Associate Deputy Chief, National Forest System.

[FR Doc. 2022-04008 Filed 2-24-22; 8:45 am]

BILLING CODE 3411-15-P